DEPARTMENT OF COMMERCE

International Trade Administration

Establishment of the Civil Nuclear Trade Advisory Committee and Solicitation of Nominations for Membership

AGENCY: International Trade Administration, DOC.

ACTION: Notice of establishment of the Civil Nuclear Trade Advisory Committee and solicitation of nominations for membership.

SUMMARY: Pursuant to provisions under the Federal Advisory Committee Act, 5 U.S.C. Appendix 2, the Under Secretary of Commerce for International Trade announces the establishment of the Civil Nuclear Trade Advisory Committee (CINTAC) by the Secretary of Commerce. The CINTAC shall advise the Secretary regarding the development and administration of programs to expand United States exports of civil nuclear goods and services in accordance with applicable United States regulations, for use by the Department of Commerce in its role as member of the Civil Nuclear Trade Working Group (CINTWG) of the Trade Promotion Coordinating Committee (TPCC). This notice also requests nominations for membership on the CINTAC.

DATES: Nominations for members must be received on or before September 30, 2008.

ADDRESSES: All nominations should be submitted to Sarah Lopp, Office of Energy & Environmental Industries, Room 4053, U.S. Department of Commerce, 14th Street and Constitution Avenue, NW., Washington, DC 20230.

FOR FURTHER INFORMATION CONTACT: Sarah Lopp, Office of Energy & Environmental Industries, Room 4407, U.S. Department of Commerce, 14th Street and Constitution Avenue, NW., Washington, DC 20230; phone 202-482-3851; fax 202-482-5665; e-mail sarah.lopp@mail.doc.gov.

SUPPLEMENTARY INFORMATION:

I. Background and Authority

The CINTAC is being established under the discretionary authority of the Secretary, in response to an identified need for consensus advice from U.S. industry to the U.S. government on how U.S. foreign policies, programs, and activities will affect the U.S. civil nuclear industry's competitiveness and ability to participate in the international market. The Federal Advisory Committee Act (5 U.S.C. Appendix 2) governs the CINTAC, and sets forth standards for the formation and use of advisory committees.

CINTAC shall advise the Secretary of Commerce regarding the development and administration of programs and policies to expand United States exports of civil nuclear goods and services in accordance with applicable United States regulations, for use of the Department of Commerce in its role as member of the CINTWG of the TPCC. In connection with that function, the Committee shall advise on matters including, but not limited to:

(1) Trade policy development and negotiations relating to U.S. civil nuclear exports;

(2) The effect of U.S. and foreign government policies, regulations, programs and practices on the export of U.S. civil nuclear goods and services;

(3) The competitiveness of U.S. industry and its ability to respond to international opportunities for civil nuclear products and services, including specific exporting problems, and U.S. Government and public/private actions to assist civil nuclear companies in expanding their exports;

(4) Priority civil nuclear products and services markets with high immediate returns for U.S. exports, as well as emerging markets with a longer-term potential for U.S. exports;

(5) Strategies to increase private sector awareness and effective use of U.S. Government export promotion programs, and to make U.S. Government programs more efficiently designed and coordinated;

(6) The development of complementary industry and trade association export promotion programs, and greater or more effective resource allocation for export promotion in the private sector; and

(7) The development of U.S. Government programs to encourage producers of civil nuclear products and services to enter new foreign markets, in connection with which CINTAC may advise on how to gather, disseminate, and promote awareness of information on civil nuclear exports and related trade issues.

II. Structure

The CINTAC shall consist of not more than 20 members appointed by the Secretary of Commerce, in accordance with applicable Department of Commerce guidance and based on their ability to carry out the objectives of the CINTAC. Members shall represent U.S. exporters of civil nuclear products and services and reflect the diversity of this sector, including company size and geographic location, and shall be drawn from U.S. civil nuclear manufacturing and services companies, U.S. trade associations, and U.S. private sector organizations involved in the promotion of exports of civil nuclear products and services. The Secretary shall appoint to the Committee at least one individual representing each of the following groups:

a. U.S. civil nuclear companies that are not majority owned or controlled by a foreign government entity;

b. Small businesses;

c. U.S. utilities;

d. Trade associations in the civil nuclear sector; and

e. Private sector organizations involved in the international trade of civil nuclear products and services.

Members shall serve in a representative capacity, expressing the views and interests of a U.S. entity or organization, as well as their particular sector. The members shall not serve as Special Government Employees. Each member of the Committee must be a U.S. citizen, and not registered as foreign agent under the Foreign Agents Registration Act. No member may represent a company that is majority owned or controlled by a foreign government entity. Appointments will be made without regard to political affiliation. Members shall serve at the pleasure of the Secretary from the date of appointment to the Committee to the date on which the CINTAC's charter terminates (normally a two-year term). The Secretary shall designate the CINTAC Chair and Vice Chair. The Chair and Vice Chair will serve in those positions at the pleasure of the Secretary. The Assistant Secretary of Commerce for Manufacturing and Services shall designate the CINTAC Executive Director. The Assistant Secretary of Commerce for Manufacturing and Services shall designate a Designated Federal Officer (DFO) from among the employees of the Office of Energy and Environmental Industries.

III. Compensation

Members of the CINTAC will not be compensated for their services or reimbursed for their travel expenses.

IV. Nominations

The Secretary of Commerce invites nominations to CINTAC of U.S. citizens who will represent U.S. civil nuclear goods and services companies that trade internationally, or trade associations whose members include U.S. companies that trade internationally. No member may represent a company that is majority owned or controlled by a foreign government entity. Nominees will be considered based upon their ability to carry out the goals of CINTAC as articulated in its charter. Self-nominations will be accepted. If you are interested in nominating someone to become a member of CINTAC, please provide the following information (2 pages maximum):

(1) Name;

(2) Title;

(3) Work Phone; Fax; and, E-mail Address;

(4) Company or Trade Association Name and Address including Web site Address;

(5) Short Biography of nominee including credentials;

(6) Brief description of the company or trade association and its business activities; company size (number of employees and annual sales); and export markets served.

Please do not send company or trade association brochures or any other information.

This information may be e-mailed to Sarah.Lopp@mail.doc.gov or faxed to the attention of Sarah Lopp at 202-482-5665, and must be received before the deadline. Nominees selected for appointment to CINTAC will be notified by return mail.

Jamie Estrada,
Deputy Assistant Secretary for Manufacturing.

[FR Doc. E8-19839 Filed 8-26-08; 8:45 am]

BILLING CODE 3510-DR-P